INTERNATIONAL TRADE COMMISSION

[Investigation No. U.S.-Korea FTA-103-033]

Certain Fabrics of Triacetate Filament Yarns: Effect of Modification to U.S.-Korea FTA Rules of Origin

AGENCY: United States International Trade Commission.

ACTION: Institution of investigation and notice of opportunity to provide written comments.

SUMMARY: Following receipt on July 5, 2022, of a request from the U.S. Trade Representative (USTR), under authority delegated by the President and pursuant to section 104(1) of the U.S.-Korea Free Trade Agreement Implementation Act (the Act), the U.S. International Trade Commission (Commission) instituted investigation No. U.S.-Korea FTA-103-033, Certain Fabrics of Triacetate Filament Yarns: Effect of Modification to U.S.-Korea FTA Rules of Origin, for the purpose of providing advice on a modification to the U.S.-Korea Free Trade Agreement (KORUS) rules of origin for certain fabrics.

DATES: August 26, 2022: Deadline for filing written submissions. November 4, 2022: Transmittal of Commission report to USTR.

ADDRESSES: All Commission offices are in the U.S. International Trade Commission Building, 500 E Street SW, Washington, DC. Due to the COVID 19 pandemic, the Commission's building is currently closed to the public. Once the building reopens, persons with mobility impairments who will need special assistance in gaining access to the Commission should contact the Office of the Secretary at 202-205-2000.

FOR FURTHER INFORMATION CONTACT: Project Leader Katherine Stubblefield (202-205-2522 or katherine.stubblefield@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (jennifer.andberg@usitc.gov or 202-205-1819).

The public record for this investigation may be viewed on the Commission's electronic docket (EDIS) at https://edis.usitc.gov. General information concerning the Commission may be obtained by accessing its internet address (https://www.usitc.gov). Hearing-impaired individuals are advised that information on this matter can be obtained by contacting the Commission's TDD terminal on 202-205-1810.

Background: In her request letter (received July 5, 2022), the USTR stated that the United States and Korea have recently reached preliminary agreement on a proposed modification to the KORUS rules of origin for certain fabrics. The USTR stated that section 202(o)(2)(B)(i) of the Act authorizes the President, subject to the consultation and layover requirements of section 104 of the Act, to proclaim such modifications to the rules or origin for textiles and apparel goods as are necessary to implement an agreement with Korea pursuant to Article 4.2.5 of the U.S.-Korea FTA. The USTR also stated that one of the requirements set out in section 104(1) of the Act is that the President obtain advice regarding the proposed action from the Commission.

In the request letter, the USTR asked that the Commission provide advice on the probable economic effect of the rules of origin modification on U.S. trade under KORUS, total U.S. trade, and domestic producers of the affected articles. She further requested that the Commission provide its advice at the earliest possible date but no later than four months from receipt of the request, and that it issue as soon as possible thereafter, a public version of its report with any confidential business information redacted.

The proposed modification to the KORUS rules of origin covers certain fabrics of heading 5408 made from textured and non-textured triacetate filament yarns of subheading 5403.33. The request letter and the proposed modification are available on the Commission's website at https://www.usitc.gov. As requested, the Commission will provide its advice to USTR no later than four months from receiving the request letter (or by November 4, 2022).

Written Submissions: No public hearing is planned. However, interested parties are invited to file written submissions. All written submissions should be addressed to the Secretary, and should be received no later than 5:15 p.m., August 26, 2022. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information: Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the CBI is clearly identified by means of brackets. All written submissions, except for CBI, will be made available for inspection by interested parties.

The Commission may include some or all of the CBI submitted in the course of the investigation in the report it sends to USTR. In addition, all information, including CBI, submitted in this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any CBI in a manner that would reveal the operations of the firm supplying the information.

Summaries of Written Submissions: The Commission intends to publish summaries of the positions of interested persons in an appendix to its report. Persons wishing to have a summary of their position included in the report should include a summary with their written submission on or before August 26, 2022, and should mark the summary as having been provided for that purpose. The summary should be clearly marked as “summary for inclusion in the report” at the top of the page. The summary may not exceed 500 words and should not include any CBI. The summary will be published as provided if it meets these requirements and is germane to the subject matter of the investigation. The Commission will list the name of the organization furnishing the summary and will include a link to the Commission's Electronic Document Information System (EDIS) where the written submission can be found.

By order of the Commission.
Issued: July 21, 2022.
Katherine Hiner,
Acting Secretary to the Commission.

[FR Doc. 2022-16049 Filed 7-26-22; 8:45 am]

BILLING CODE 7020-02-P